DEPARTMENT OF HOMELAND SECURITY

[Docket No. DHS-2011-0116]

Information Collection Request: GFIRST Conference Stakeholder Evaluation

AGENCY: National Protection and Programs Directorate, DHS.

ACTION: 60-day notice and request for comments; New Information Collection Request: 1670-NEW.

SUMMARY: The Department of Homeland Security (DHS), National Protection and Programs Directorate (NPPD), Office of Cybersecurity and Communications (CS&C), National Cyber Security Division (NCSD), United States Computer Emergency Readiness Team (US-CERT), will submit the following Information Collection Request to the Office of Management and Budget (OMB) for review and clearance in accordance with the Paperwork Reduction Act of 1995 (Pub. L. 104-13, 44 U.S.C. Chapter 35).

DATES: Comments are encouraged and will be accepted until April 30, 2012. This process is conducted in accordance with 5 CFR 1320.1.

ADDRESSES: Written comments and questions about this Information Collection Request should be forwarded to DHS/NPPD/CS&C/NCSD/US-CERT Department of Homeland Security (Attn: NPPD/CS&C/NCSD/US-CERT) 245 Murray Lane SW., Bldg 410, Washington, DC 20528-0635. Emailed requests should go to Corliss McCain, Corliss.McCain@dhs.gov. Written comments should reach the contact person listed no later than April 30, 2012. Comments must be identified by “DHS-2011-0116”and may be submitted by one of the following methods:

• Federal eRulemaking Portal: http://www.regulations.gov.

• Email: Include the docket number in the subject line of the message.

Instructions: All submissions received must include the words “Department of Homeland Security” and the docket number for this action. Comments received will be posted without alteration at http://www.regulations.gov, including any personal information provided.

SUPPLEMENTARY INFORMATION: The purpose of DHS's premier cyber conference is to continually seek to enhance collaborative efforts between cyber constituencies, partners and stakeholders. The data provided will assist GFIRST planners in areas of improvement and efficiency. With the survey responses we can better tailor our events, materials and activities to improve the efforts of protecting our Nation's cybersecurity. As part of the National Strategy for a Secure Cyberspace, US-CERT is required to assist in the fight against the disruption of the operation of critical information systems.

The National Strategy for a Secure Cyberspace requires US-CERT to assist in the continuous assessment of threats and vulnerabilities to Federal cyber systems. As part of our mission, US-CERT is required to assist and urge state and local governments to consider establishing information technology security programs and participate in information sharing and analysis centers with similar governments. The GFIRST conference provides an annual forum to network with public and private stakeholders, while also acting as a conduit for state, local and government information sharing critical to securing our nations cyberspace.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Office of Cybersecurity and Communications, National Cyber Security Division, United States Computer Emergency Readiness Team.

Title: GFIRST Conference Stakeholder Evaluation.

OMB Number: 1670-NEW.

Frequency: Annually.

Affected Public: Conference attendees, comprised of general public.

Number of Respondents: 1000 respondents.

Estimated Time per Respondent: 2 minutes.

Total Burden Hours: 16.6 annual burden hours.

Total Burden Cost (capital/startup): $0.

Total Recordkeeping Burden: $0.

Total Burden Cost (operating/maintaining): $675.95.

Dated: February 21, 2012.
David Epperson,
Chief Information Officer, National Protection and Programs Directorate, Department of Homeland Security.

[FR Doc. 2012-4754 Filed 2-28-12; 8:45 am]

BILLING CODE 9110-9P-P